NUCLEAR REGULATORY COMMISSION

[Docket No. 55-22685; ASLBP No. 05-840-01-SP]

In the Matter of David H. Hawes; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

David H. Hawes (Reactor Operator License for Vogtle Electric Generating Plant)

This proceeding concerns a request for hearing submitted on June 28, 2005, by David H. Hawes in response to a June 20, 2005, NRC staff letter proposing the denial of his application for a reactor operator license for the Vogtle Electric Generating Plant. According to the staff letter, the basis for the proposed denial action was Mr. Hawe's failure to obtain a passing grade on the May 27, 2005, written examination portion of his reactor operator license application for the Vogtle Electric Generating Plant.

The Board is comprised of the following administrative judges:

Ann M. Young, Chair, U.S. Nuclear Regulatory Commission, Washington, DC 20555-0001.

Michael C. Farrar, U.S. Nuclear Regulatory Commission, Washington, DC 20555-0001.

Dr. Peter S. Lam, U.S. Nuclear Regulatory Commission, Washington, DC 20555-0001.

All correspondence, documents, and other materials shall be filed with the administrative judges in accordance with 10 CFR 2.302.

Issued in Rockville, Maryland, this 22nd day of July, 2005.
G. Paul Bollwerk, III,
Chief Administrative Judge, Atomic Safety and Licensing Board Panel.

[FR Doc. E5-4010 Filed 7-27-05; 8:45 am]

BILLING CODE 7590-01-P